FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012201-001.

Title: WWL/K-Line Space Charter Agreement.

Parties: Wallenius Wilhelmsen Logistics AS and Kawasaki Kisen Kaisha, Ltd.

Filing Party: John P. Meade, Esq.; General Counsel; K-Line America, Inc.; 6009 Bethlehem Road; Preston, MD 21655.

Synopsis: The Amendment would add the U.S. Pacific Coast and Japan to the geographic scope of the Agreement.

Agreement No.: 012219.

Title: Seaboard/MOL Space Charter Agreement.

Parties: Seaboard Marine Ltd. and Mitsui O.S.K. Lines, Ltd.

Filing Party: Wayne R. Rohde, Esq.; Cozen O'Connor; 1627 I Street NW., Suite 1100; Washington, DC 20006.

Synopsis: The agreement authorizes Seaboard to charter space to MOL in the trade between Panama and the U.S. Gulf Coast.

Agreement No.: 012220.

Title: Crowley/Seaboard Space Charter and Sailing Agreement.

Parties: Crowley Latin America Services, LLC; and Seaboard Marine, Ltd.

Filing Party: Wayne R. Rohde, Esq.; Cozen O'Connor; 1627 I Street NW., Suite 1100; Washington, DC 20006.

Synopsis: The agreement authorizes Crowley and Seaboard to share vessels in the trade between Miami and Port Everglades on the one hand, and ports on the Caribbean/Atlantic Coast of Costa Rice and Panama, on the other hand.

Agreement No.: 012221.

Title: CSCL/YMUK Slot Exchange Agreement.

Parties: China Shipping Container Lines Co., Ltd. and China Shipping Container Lines (Hong Kong) Co., Ltd. (acting as a single party); and Yang Ming (UK), Ltd.

Filing Party: Patricia M. O'Neill; Blank & Rome LLP; 600 New Hampshire Ave. NW., Washington, DC 20037.

Synopsis: The agreement authorizes the parties to exchange space on vessels in the trade between the West Coast of the U.S. on the one hand, and China and South Korea on the other hand.

Agreement No.: 012222.

Title: Crowley/America Cruise Ferries, Inc. Space Charter and Sailing Agreement.

Parties: Crowley Latin America Services, LLC; and America Cruise Ferries, Inc.

Filing Party: Marc J. Fink, Esq.; Cozen O'Connor; 1627 I Street NW., Suite 1100; Washington, DC 20006.

Synopsis: The Agreement authorizes Crowley to charter space from America Cruise Ferries in the trade between Puerto Rico and the Dominican Republic.

Dated: August 30, 2013.
By Order of the Federal Maritime Commission.
Rachel E. Dickon,
Assistant Secretary.

[FR Doc. 2013-21629 Filed 9-4-13; 8:45 am]

BILLING CODE 6730-01-P